DEPARTMENT OF HOMELAND SECURITY

Coast Guard

33 CFR Part 117

[USCG-2010-0818]

Drawbridge Operation Regulations; Cape Fear River and Northeast Cape Fear River, in Wilmington, NC

AGENCY: Coast Guard, DHS.

ACTION: Notice of temporary deviation from regulations.

SUMMARY: The Commander, Fifth Coast Guard District, has issued a temporary deviation from the regulations governing the operation of two North Carolina Department of Transportation (NCDOT) drawbridges: The Cape Fear River Memorial Bridge, across Cape Fear River, mile 26.8, and the Isabel S. Holmes Bridge, across Northeast Cape Fear River, mile 1.0, both in Wilmington, NC, to accommodate River Fest 8K Run. The deviation allows the bridges to remain in the closed position to vessels.

DATES: This deviation is effective from 8 a.m. to 10 a.m. on October 3, 2010.

ADDRESSES: Documents mentioned in this preamble as being available in the docket are part of docket USCG-2010-0818 and are available online by going to http://www.regulations.gov, inserting USCG-2010-0818 in the “keyword” box and then clicking “Search”. They are also available for inspection or copying at the Docket Management Facility (M-30), U.S. Department of Transportation, West Building Ground Floor, Room W12-140, 1200 New Jersey Avenue, SE., Washington, DC 20590 between 9 a.m. and 5 p.m., Monday through Friday, except Federal holidays.

FOR FURTHER INFORMATION CONTACT: If you have questions on this rule, call or e-mail Sandra S. Elliott, Bridge Management Specialist, Fifth Coast Guard District; telephone 757-398-6557, e-mail Sandra.S.Elliott@uscg.mil. If you have questions on viewing the docket, call Renee V. Wright, Program Manager, Docket Operations, telephone 202-366-9826.

SUPPLEMENTARY INFORMATION: The Cape Fear River Memorial Bridge, a vertical lift drawbridge, has vertical clearances in full open and closed positions to vessels of 135 feet and 65 feet above mean high water (MHW), respectively. The Isabel S. Holmes Bridge, across Northeast Cape Fear River, mile 1.0, a bascule lift bridge, has a vertical clearance in the closed position to vessels of 40 feet above MHW.

The North Carolina Department of Transportation, owner of the drawbridges, has requested a temporary deviation from the current operating regulations of the aforementioned bridges set out in 33 CFR 117.5, 117.823 and 117.829(a), respectively, to accommodate the River Fest 8K Run scheduled for Sunday, October 3, 2010, from 8 a.m. to 10 a.m.

Under this deviation, the drawbridges will be allowed to remain in the closed-to-navigation position from 8 a.m. to 10 a.m. on Sunday, October 3, 2010 to accommodate the River Fest 8K Run.

The Coast Guard will inform the users of the waterways through our Local and Broadcast Notices to mariners of the closure period for the bridges so that vessels can arrange their transits and to minimize any impact caused by the temporary deviation. There are no alternate routes for vessels transiting these sections of the Cape Fear and Northeast Cape Fear Rivers and the drawbridges will be able to open in the event of an emergency.

In accordance with 33 CFR 117.35(e), the drawbridges must return to their regular operating schedules immediately at the end of the designated time period. This deviation from the operation regulations is authorized under CFR 117.35.

Dated: August 27, 2010.
Waverly W. Gregory Jr.,
Chief, Bridge Administration Branch, Fifth Coast Guard District.

[FR Doc. 2010-22415 Filed 9-8-10; 8:45 am]

BILLING CODE 9110-04-P